DEFENSE NUCLEAR FACILITIES SAFETY BOARD

Sunshine Act Meeting Notice

Federal Register CITATION OF PREVIOUS ANNOUNCEMENT: 77 FR 479 (January 5, 2012); FR Doc. 2012-44.

PREVIOUSLY ANNOUNCED TIME AND DATE OF THE MEETING: Session I: 1 p.m.-4 p.m., March 22, 2012; Session II: 6 p.m.-9 p.m., March 22, 2012, Three Rivers Convention Center, 7016 West Grandridge Boulevard, Kennewick, Washington 99352.

CHANGES IN THE MEETING: The Defense Nuclear Facilities Safety Board (Board) is expanding the matters to be considered in Session I of the hearing and meeting. Session I will also include testimony from the Department of Energy (DOE) and its contractors concerning the status of actions related to unresolved technical safety issues in the design of the Waste Treatment and Immobilization Plant (WTP) and infrastructure needs at the Tank Farms. The Board will also examine the relationship between the resolution of these unresolved safety issues and development of a sound nuclear safety strategy. To illustrate these challenges, the Board will explore at least two areas of technical concern: erosion/corrosion and pulse jet mixing.

Session II of the hearing concerns the status of actions related to the DOE's implementation plan for the Board's Recommendation 2011-1, Safety Culture at the Waste Treatment and Immobilization Plant. Session II includes several panels of witnesses, including a panel of DOE Headquarters senior management personnel who will discuss DOE's plan for corrective actions for safety culture concerns and management/resolution of safety and technical issues across the defense nuclear facilities complex. Since this panel involves just headquarters personnel, the Board has determined that it would be more beneficial to convene the headquarters panel in Washington, DC, at a later date. The Board will therefore be reconvening a separate supplemental panel session, a continuation of hearing Session II, from 9 a.m.-12 p.m., on Tuesday, May 22, 2012, at the Board's Washington, DC, Headquarters located at 625 Indiana Avenue NW., Suite 300, Washington, DC 20004-2001.

The Board's instructions for public participation for Sessions I and II of the March 22, 2012 hearing are described in the Federal Register notice (77 FR 479) for that hearing. Public participation for the reconvened Session II hearing in Washington, DC, is also invited. The Board is setting aside time at the end of the reconvened Session of the hearing for presentations and comments from the public. Requests to speak may be submitted in writing or by telephone. The Board asks that commenters describe the nature and scope of their oral presentations. For the continuation of Session II, those who contact the Board prior to close of business on May 18, 2012, will be scheduled to speak. At the beginning of continued hearing, the Board will post a schedule for speakers at the entrance to the hearing room. Anyone who wishes to comment or provide technical information or data may do so in writing, either in lieu of, or in addition to, making an oral presentation. The Board Members may question presenters to the extent deemed appropriate. Documents will be accepted at the hearing or may be sent to the Board's Washington, DC, office. The hearing will be presented live through Internet video streaming. A link to the presentation will be available on the Board's Web site (www.dnfsb.gov). A transcript of the hearing, along with a DVD video recording, will be made available by the Board for inspection and viewing by the public at the Board's Washington, DC, office and at DOE's public reading room at the DOE Federal Building, 1000 Independence Avenue SW., Washington, DC 20585. The Board specifically reserves its right to further schedule and otherwise regulate the course of the meeting and hearing, to recess, reconvene, postpone, or adjourn the meeting and hearing, conduct further reviews, and otherwise exercise its power under the Atomic Energy Act of 1954, as amended.

The Board also stated in the original Federal Register notice that the hearing record would remain open until April 23, 2012, for the receipt of additional materials. As a result of the continuation of Session II, the Board now extends the period of time for which the full hearing record will remain open to June 23, 2012.

CONTACT PERSON FOR MORE INFORMATION: Brian Grosner, General Manager, Defense Nuclear Facilities Safety Board, 625 Indiana Avenue NW., Suite 700, Washington, DC 20004-2901, (800) 788-4016. This is a toll-free number.

Dated: March 5, 2012.
Peter S. Winokur,
Chairman.

[FR Doc. 2012-5720 Filed 3-6-12; 11:15 am]

BILLING CODE 3670-01-P